DEPARTMENT OF JUSTICE

Notice of Lodging of Proposed Consent Decree Under the Clean Air Act

On March 15, 2022, the Department of Justice lodged a proposed Consent Decree with the United States District Court for the Western District of Louisiana in the lawsuit entitled United States of America v. Power Performance Enterprises Inc. and Kory Blaine Willis, Civil Action No. 22-cv-00693.

In this action, the United States, on behalf of the U.S. Environmental Protection Agency, filed a Complaint alleging that between August 15, 2013 and June 4, 2018, Defendants PPEI and its owner, Mr. Willis, manufactured, sold, or offered to sell aftermarket automotive products that have a principal effect of bypassing, defeating, or rendering inoperative the emission controls on diesel cars and trucks in violation of Section 203(a)(3)(B) of the CAA, 42 U.S.C. 7522(a)(3)(B). The Complaint further alleges that, absent an injunction, Defendants may resume the manufacture or sales of such products. The proposed Complaint seeks appropriate civil penalties and injunctive relief to prohibit Defendants from continuing to manufacture and sell these unlawful products.

Under the proposed settlement, the Defendants agree to pay a civil penalty (based on a finding of limited ability to pay) of $1,550,000 in three installment payments over 2 years. In addition, the settlement imposes various restrictions designed to ensure that Defendants operate in compliance with the law.

The publication of this notice opens a period for public comment on the proposed Consent Decree. Comments should be addressed to the Assistant Attorney General, Environment and Natural Resources Division, and should refer to United States of America v. Power Performance Enterprises Inc. and Kory Blaine Willis, D.J. Ref. No. 90-5-2-1-11865. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $17.00 (25 cents per page reproduction cost) payable to the United States Treasury.

Thomas Carroll,
Assistant Section Chief, Environmental Enforcement Section, Environment and Natural Resources Division.

[FR Doc. 2022-05754 Filed 3-17-22; 8:45 am]

BILLING CODE 4410-15-P